DEPARTMENT OF THE INTERIOR

Fish and Wildlife Service

[Docket No. FWS-R3-ES-2024-0023; FXES11140300000-245-FF03E00000]

Receipt of an Application for an Amended Incidental Take Permit Amendment for the Great Pathfinder Habitat Conservation Plan, Hamilton and Boone Counties, IA; Categorical Exclusion

AGENCY: Fish and Wildlife Service, Interior.

ACTION: Notice of availability; request for comments and information.

SUMMARY: We, the U.S. Fish and Wildlife Service, have received an application from Great Pathfinder Wind LLC (applicant), to amend an existing incidental take permit under the Endangered Species Act, for its Great Pathfinder Wind Project. We request public comment on the application, which includes the applicant's proposed amended habitat conservation plan, and the Service's preliminary determination that the proposed permitting action may be eligible for a categorical exclusion pursuant to the Council on Environmental Quality's National Environmental Policy Act (NEPA) regulations, the Department of the Interior's (DOI) NEPA regulations, and the DOI Departmental Manual. To make this preliminary determination, we prepared a draft environmental action statement and low-effect screening form, both of which are also available for public review. We invite comment from the public and local, State, Tribal, and Federal agencies.

DATES: We will accept comments received or postmarked on or before July 3, 2024.

ADDRESSES:

Obtaining Documents: The documents this notice announces, as well as any comments and other materials that we receive, will be available for public inspection online in Docket No. FWS-R3-ES-2024-0023 at https://www.regulations.gov.

Submitting Comments: If you wish to submit comments on any of the documents, you may do so in writing by one of the following methods:

• Online: https://www.regulations.gov. Follow the instructions for submitting comments on Docket No. FWS-R3-ES-2024-0023.

• U.S. mail: Submit comments by U.S. mail to Public Comments Processing, Attn: Docket No. FWS-R3-ES-2024-0023; U.S. Fish and Wildlife Service; 5275 Leesburg Pike, MS: PRB/3W; Falls Church, VA 22041-3803.

FOR FURTHER INFORMATION CONTACT: Kraig McPeek, Field Supervisor, Illinois-Iowa Ecological Services Field Office, by email at Kraig_mcpeek@fws.gov, or by telephone at 309-757-5800, extension 214; or Andrew Horton, Regional HCP Coordinator, by email at andrew_horton@fws.gov, or by telephone at 612-713-5337. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), have received an application from Great Pathfinder Wind LLC (applicant), to amend an existing incidental take permit (ITP) under the Endangered Species Act of 1973, as amended (ESA; 16 U.S.C. 1531 et seq.), for its Great Pathfinder Wind Project (project). If approved, the amended ITP would add authorization of incidental take of a proposed endangered species, the tricolored bat (Perimyotis subflavus), to the currently existing authorizations to incidentally take the Indiana bat (Myotis sodalis) and northern long-eared bat (Myotis septentrionalis), both of which are federally listed as endangered. The applicant has prepared a proposed habitat conservation plan (HCP) amendment that describes the actions and measures that the applicant would implement to avoid, minimize, and mitigate incidental take of the tricolored bat. We also announce the availability of a draft environmental action statement and low-effect screening form, which has been prepared in response to the permit application in accordance with the requirements of the National Environmental Policy Act (NEPA; 42 U.S.C. 4321 et seq.). We request public comment on the application and associated documents.

Background

Section 9 of the Endangered Species Act of 1973, as amended (ESA; 16 U.S.C. 1531 et seq.), and its implementing regulations prohibit the “take” of animal species listed as endangered or threatened. “Take” is defined under the ESA as to “harass, harm, pursue, hunt, shoot, wound, kill, trap, capture, or collect [listed animal species], or to attempt to engage in such conduct” (16 U.S.C. 1538). However, under section 10(a) of the ESA, we may issue permits to authorize incidental take of listed species. “Incidental take” is defined by the ESA as take that is incidental to, and not the purpose of, carrying out an otherwise lawful activity. Regulations governing incidental take permits for endangered and threatened species, respectively, are found in the Code of Federal Regulations (CFR) at 50 CFR 17.22 and 50 CFR 17.32.

Applicant's Proposed Project

The applicant requests to amend their current 6-year ITP (ESPER0627303). The proposed HCP amendment, if approved, would add authorization to incidentally take the proposed endangered tricolored bat (Perimyotis subflavus) to the remaining 5 years of the current ITP. The applicant determined that take is reasonably certain to occur incidental to operation of the 66 wind turbines at the project. The proposed conservation strategy in the applicant's proposed HCP amendment is designed to avoid, minimize, and mitigate the impacts of the covered activity on the covered species. The biological goals and objectives are to minimize potential take of Indiana bats, northern long-eared bats, and tricolored bats through on-site minimization measures and to provide habitat conservation measures for all covered to offset any impacts from operations of the project. The HCP amendment provides on-site avoidance and minimization measures, which include turbine operational adjustments. The estimated level of take from the project amendment is 15 tricolored bats. To offset the impacts of the taking tricolored bats, the applicant proposes to protect known maternity colony habitat or contribute to a white-nose treatment research mitigation fund, if available.

National Environmental Policy Act

The issuance of an ITP is a Federal action that triggers the need for compliance with NEPA. The Service has made a preliminary determination that the applicant's proposed amended project, and the proposed mitigation measures, would individually and cumulatively have a minor effect on the covered species and the human environment. Therefore, we have preliminarily determined that the proposed ESA section 10(a)(1)(B) permit would be a low-effect ITP that individually or cumulatively would have a minor effect on the species and may qualify for application of a categorical exclusion pursuant to the Council on Environmental Quality's NEPA regulations, DOI's NEPA regulations, and the DOI Departmental Manual. A low-effect ITP is one that would result in (1) minor or nonsignificant effects on species covered in the HCP; (2) nonsignificant effects on the human environment; and (3) impacts that, when added together with the impacts of other past, present, and reasonable foreseeable actions, would not result in significant cumulative effects to the human environment.

Next Steps

The Service will evaluate the application and the comments received to determine whether to issue the requested ITP. We will also conduct an intra-Service consultation pursuant to section 7 of the ESA to evaluate the effects of the proposed take. After considering the preceding and other matters, we will determine whether the permit issuance criteria of section 10(a)(1)(B) of the ESA have been met. If met, the Service will issue the requested amended ITP to the applicant.

Request for Public Comments

The Service invites comments and suggestions from all interested parties during a 30-day public comment period (see DATES). In particular, information and comments regarding the following topics are requested:

1. The effects that implementation of any alternative under this proposed amendment could have on the human environment;

2. Whether or not the significance of the impact on various aspects of the human environment has been adequately analyzed in this proposed amendment;

3. Any threats to the tricolored bat that may influence their populations over the life of the ITP that are not addressed in the proposed HCP amendment or screening form; and

4. Any other information pertinent to evaluating the effects of the proposed amendment on the human environment.

Availability of Public Comments

You may submit comments by one of the methods shown under ADDRESSES. We will post on https://www.regulations.gov all public comments and information received electronically or via hardcopy. All comments received, including names and addresses, will become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Authority

We provide this notice under section 10(c) of the ESA (16 U.S.C. 1531 et seq.) and its implementing regulations (50 CFR 17.22) and NEPA (42 U.S.C. 4321 et seq.) and its implementing regulations (40 CFR 1500-1508; 43 CFR part 46).

Lori Nordstrom,
Assistant Regional Director, Ecological Services.

[FR Doc. 2024-12123 Filed 5-31-24; 8:45 am]

BILLING CODE 4333-15-P